COMMITTEE FOR THE IMPLEMENTATION OF TEXTILE AGREEMENTS

Amendment of Import Limits for Certain Cotton, Wool, Man-Made Fiber, Silk Blend and Other Vegetable Fiber Textiles and Textile Products Produced or Manufactured in the People's Republic of China; Correction

August 29, 2002.

In the letter to the Commissioner of Customs published in the Federal Register on May 29, 2002 (67 FR 37398), in the table listing import restraint limits, please change the limit for Group I from 1,201,100,744 square meters equivalent to 1,206,507,535 square meters equivalent and Group II from 44,086,866 square meters equivalent to 38,680,076 square meters equivalent.

The limit changes are a result of an administrative correction to our integration methodology for China.

D. Michael Hutchinson,
Acting Chairman, Committee for the Implementation of Textile Agreements.

[FR Doc. 02-22581 Filed 9-4-02; 8:45 am]

BILLING CODE 3510-DR-S